DEPARTMENT OF STATE

[Public Notice 4122]

Determination Related to Colombian Armed Forces Under Section 567(a)(1) of the Kenneth M. Ludden Foreign Operations, Export Financing, and Related Programs Appropriations, 2002 (Pub. L. 107-115)

Pursuant to the authority vested in me as Secretary of State, including under section 567 of the Kenneth M. Ludden Foreign Operations, Export Financing, and Related Programs Appropriations Act, 2002 (Public. Law. 107-115) (the “FOAA”), I hereby determine and certify that: (A) “[t]he Commander General of the Colombian Armed Forces is suspending from the Armed Forces those members, of whatever rank, who have been credibly alleged to have committed gross violations of human rights, including extra-judicial killings, or to have aided or abetted paramilitary groups;” (B) “[t]he Colombian Armed Forces are cooperating with civilian prosecutors and judicial authorities (including providing requested information, such as the identity of the persons suspended from the Armed Forces and the nature and cause of the suspension, and access to witnesses and relevant military documents and other information), in prosecuting and punishing in civilian courts those members of the Colombian Armed Forces, of whatever rank, who have been credibly alleged to have committed gross violations of human rights, including extra-judicial killings, or to have aided or abetted paramilitary groups;” and (C) “[t]he Colombian Armed Forces are taking effective measures to sever links (including by denying access to military intelligence, vehicles, and other equipment or supplies, and ceasing other forms of active or tacit cooperation), at the command, battalion, and brigade levels, with paramilitary groups, and to execute outstanding orders for capture for members of such groups.” The Department of State has consulted with internationally recognized human rights organizations regarding the Colombian Armed Forces' progress in meeting the conditions contained in section 567(a)(1).

This Determination shall be published in the Federal Register and copies shall be transmitted to the appropriate committees of Congress.

Dated: September 9, 2002.
Richard L. Armitage,
Deputy Secretary of State, Department of State.

[FR Doc. 02-23623 Filed 9-16-02; 8:45 am]

BILLING CODE 4710-29-P